DEPARTMENT OF LABOR

Office of the Secretary

Notice of Procedural Guidelines for the Development and Maintenance of the List of Goods From Countries Produced by Child Labor or Forced Labor; Request for Information

AGENCY: Bureau of International Labor Affairs, Department of Labor.

ACTION: Notice of procedural guidelines for the development and maintenance of a list of goods from countries produced by child labor or forced labor in violation of international standards; Request for information.

SUMMARY: This notice sets forth final procedural guidelines (“Guidelines”) for the development and maintenance of a list of goods from countries that the Bureau of International Labor Affairs (“ILAB”) has reason to believe are produced by child labor or forced labor in violation of international standards (“List”). The Guidelines establish the process for public submission of information, and the evaluation and reporting process to be used by the U.S. Department of Labor's (“DOL”) Office of Child Labor, Forced Labor, and Human Trafficking (“Office”) in maintaining and updating the List. DOL is required to develop and make available to the public the List pursuant to the Trafficking Victims Protection Reauthorization Act of 2005. This notice also requests information on the use of child labor and/or forced labor in the production of goods internationally, as well as information on government, industry, or third-party actions and initiatives to address these problems. This information will be used by DOL as appropriate in developing the initial List.

DATES: This document is effective immediately upon publication of this notice. Information submitted in response to this notice must be received by the Office no later than March 26, 2008. Information received after that date may not be taken into consideration in developing DOL's initial List, but such information will be considered by the Office as the List is maintained and updated in the future.

TO SUBMIT INFORMATION, OR FOR FURTHER INFORMATION, CONTACT: Director, Office of Child Labor, Forced Labor, and Human Trafficking, Bureau of International Labor Affairs, U.S. Department of Labor at (202) 693-4843 (this is not a toll-free number). Information may be submitted by the following methods:

• Facsimile (fax): ILAB/Office of Child Labor, Forced Labor, and Human Trafficking at 202-693-4830.

• Mail, Express Delivery, Hand Delivery, and Messenger Service: Charita Castro or Rachel Rigby at U.S. Department of Labor, ILAB/Office of Child Labor, Forced Labor, and Human Trafficking, 200 Constitution Ave., NW., Room S-5317, Washington, DC 20210.

• E-mail: ilab-tvpra@dol.gov.

SUPPLEMENTARY INFORMATION: Section 105(b)(1) of the Trafficking Victims Protection Reauthorization Act of 2005 (“TVPRA of 2005”), Public Law 109-164 (2006), directed the Secretary of Labor, acting through the Bureau of International Labor Affairs, to “carry out additional activities to monitor and combat forced labor and child labor in foreign countries.” Section 105(b)(2) of the TVPRA, 22 U.S.C. 7112(b)(2), listed these activities as:

(A) Monitor the use of forced labor and child labor in violation of international standards;

(B) Provide information regarding trafficking in persons for the purpose of forced labor to the Office to Monitor and Combat Trafficking of the Department of State for inclusion in [the] trafficking in persons report required by section 110(b) of the Trafficking Victims Protection Act of 2000 (22 U.S.C. 7107(b));

(C) Develop and make available to the public a list of goods from countries that the Bureau of International Labor Affairs has reason to believe are produced by forced labor or child labor in violation of international standards;

(D) Work with persons who are involved in the production of goods on the list described in subparagraph (C) to create a standard set of practices that will reduce the likelihood that such persons will produce goods using the labor described in such subparagraph; and

(E) Consult with other departments and agencies of the United States Government to reduce forced and child labor internationally and ensure that products made by forced labor and child labor in violation of international standards are not imported into the United States.

The Office carries out the DOL mandates in the TVPRA. These Guidelines provide the framework for ILAB's implementation of the TVPRA mandate, and establish procedures for the submission and review of information and the process for developing and maintaining the List. In addition to the Office's efforts under the TVPRA, the Office conducts and publishes research on child labor and forced labor worldwide. The Office consults such sources as DOL's Findings on the Worst Forms of Child Labor; the Department of State's annual Country Reports on Human Rights Practices and Trafficking in Persons Reports; reports by governmental, non-governmental, and international organizations; and reports by academic and research institutions and other sources.

In addition to reviewing information submitted by the public in response to this Notice, the Office will also conduct a public hearing to gather information to assist in the development of the List. The Office will evaluate all information received according to the processes outlined in these Guidelines. Goods that meet the criteria outlined in these Guidelines will be placed on an initial List, published in the Federal Register and on the DOL Web site. DOL intends to maintain and update the List over time, through its own research, interagency consultations, and additional public submissions of information. Procedures for the ongoing maintenance of the List, and key terms used in these Guidelines, are described in detail below.

Public Comments

On October 1, 2007, ILAB published a Federal Register notice of proposed procedural guidelines, requesting public comments on the proposed guidelines (72 FR 55808 (Oct. 1, 2007)). The notice provided a 30-day period for submitting written comments, which closed on Oct. 31, 2007. Written comments were received from nine parties. Several of the comments strongly supported the Department's efforts to combat child labor and forced labor. All of the comments were given careful consideration and where appropriate, changes were made to the Guidelines. The comments and any revisions to the proposed Guidelines are explained in detail below.

A. Comments Concerning the Office's Evaluation of Information

Several commenters questioned the Department's decision to consider information up to seven years old. One commenter asserted that even one-year-old information should be considered too dated to be relevant. The Department appreciates the importance of using up-to-date information. It is also the Office's experience that the use of child labor and forced labor in a country or in the production of a particular good typically persists for several years, particularly when no meaningful action is taken to combat it. Information about such activities is often actively concealed. Information that is several years old therefore can provide useful context for more current information. The Office will consider the date of all available information, and, as stated in the proposed Guidelines, “more current information will generally be given priority.”

One commenter questioned how the Office would treat information on government efforts to combat the use of child labor and forced labor, stating that where a government undertakes voluntary efforts to regulate the production of goods and/or prosecutes incidents of child labor or forced labor, such government initiatives should not result in designating a particular good on the List. In response, the Office affirms the important role of government law enforcement, as well as other government, private sector, and third-party voluntary actions and initiatives to combat child labor and forced labor such as company and industry codes of conduct. However, the Office notes that some voluntary actions, as with some enforcement actions, are more effective than others. For example, some prosecutions may result in minimal or suspended sentences for the responsible parties, and some voluntary actions by government, industry, or third parties, may be ineffective in combating the violative labor practices at issue. Accordingly, in determining whether to include a good and country on the List, the Office will consider particularly relevant and probative any available evidence of government, industry, and third-party actions and initiatives that are effective in significantly reducing if not eliminating child labor and forced labor.

Two commenters questioned why the Office would not consider confidential information in a submission, with one commenter stating that a submitter should have the option of providing information containing confidential information to the Office while also providing a redacted version for public release. In response, the Office has clarified its handling of submissions containing confidential, personal, or classified information. In the interest of maintaining a transparent process, the Office will not accept classified information in developing the List. The Office may request that any such information brought to its attention be declassified. The Office will accept submissions containing confidential or personal information, but pursuant to applicable laws and regulations may redact such submissions before making them publicly available.

B. Comments Concerning the List of Goods and Countries

Several commenters questioned why the List includes raw materials and/or components directly produced using child labor and forced labor, but not final goods made in part (indirectly produced) with such materials or components. Another commenter suggested that any final good produced indirectly with child labor or forced labor at any point in its production chain should be placed on the List, and that the List should specify where in the production chain the child labor or forced labor occurred. While the Office appreciates the importance of tracking raw materials or components produced in violation of international child labor or forced labor standards through the production chain, the difficulty of accurately conducting such tracking places it beyond the scope of these Guidelines. Ideally, the Office would have access to public information that would permit the comprehensive tracking of raw materials and component parts in the global supply chain, but the Office is unaware of any such publicly available information. Moreover, the Office is aware that many goods used as raw materials or components in the production of other goods may be sourced from multiple locations within a country or even from several different countries. Consequently, it would likely be extremely difficult to develop reliable information on the final destination or use of every good produced with child labor or forced labor. Inasmuch as the primary purpose of the List is to promote efforts at the country level to combat child labor and forced labor, that purpose is best served by identifying goods directly produced with child labor and forced labor. The Office observes that nothing in these Guidelines would prevent a member of the public from tracking the final destination or use of any good on the List.

Several commenters requested that the List name individual companies using child labor or forced labor, with two commenters suggesting that this practice would protect entities that do not use child labor or forced labor in their supply chains, or that might otherwise unknowingly trade in such goods. One commenter suggested that, in addition to listing goods and countries, the Office name industries using such goods. Another commenter suggested that the Office distinguish among individual factories within a country on the List, to ensure that goods not produced with child labor or forced labor are not subject to the same treatment as goods that are so produced. Another commenter suggested that the Department hold individual violators publicly accountable.

The TVPRA mandated a List of goods and countries, not company or industry names. It would be immensely difficult for the Office to attempt to track the identity of every company and industry using a good produced with child labor or forced labor. In addition, it is the Office's experience that child labor and forced labor frequently occur in small local enterprises, for which company names, if they are available, have little relevance. The Office is also aware that it is often a simple matter to change or conceal the name of a company. Consequently, the Office has concluded that seeking to track and name individual companies would be of limited value to the primary purpose of the List, which is to promote ameliorative efforts at the country level. Moreover, holding individual violators accountable would exceed the mandate of the TVPRA of 2005. However, the TVPRA of 2005 requires that the Department work with persons who are involved in the production of goods on the List to create a standard set of practices to reduce the likelihood that such persons will produce goods using such labor. The Department intends to work with such persons once the initial List is developed.

C. Comments Concerning the Development and Maintenance of the List

One commenter suggested that the List be updated at regular intervals, and at least annually. Another commenter noted that the proposed Guidelines do not set a limit on how long a good may remain on the List, or a time period within which DOL must review the designation of a particular good. The Office anticipates that the addition, maintenance, or removal of an item on the List will be driven largely by the availability of accurate information. The Office will conduct its own research on goods produced with child labor and forced labor, and anticipates that additional information used to develop and maintain the List will be provided by the public. Consequently, the Office considers it a more efficient use of resources to re-examine goods on the List as pertinent information becomes available, rather than adhering to a fixed review schedule.

One commenter suggested that the Office provide a fixed time period within which it will decide whether to accept a submission of information. The Office has revised section B.3 of the Guidelines to remove the possibility that a submission of information will not be accepted. All submissions of information (with the exception of those containing classified information) will be accepted and evaluated for their relevance and probative value.

One commenter suggested that the Guidelines provide that the Office make a final determination whether to place a good on the List within a specific timeframe, such as within 120 days of receiving the submission. Although the Office intends to expedite its evaluation of any information submitted in response to this notice, it cannot guarantee that the Office's evaluation of a particular submission will be completed within a set timeframe. Some submissions may require further investigation by the Office, and other submissions may result in responsive submissions by other parties. Setting a fixed deadline may result in the inclusion or exclusion of a good on the List without the most comprehensive review possible.

One commenter suggested that before an entry is removed from the List, the Office should publish a notice in the Federal Register announcing its intention to consider removal of the entry and giving interested parties an opportunity to comment. The Office does not intend to provide advance notice before an item is added to or removed from the List; however, if information is submitted that tends to support a change to the List, that information will be publicly available on the Office's Web site and will provide notice to the public that the status of a particular good is under review. Moreover, the Office retains the discretion to request additional information from time to time concerning a particular good; such a request will also provide notice to the public that the status of a good is under active consideration.

One commenter suggested that the Office ensure that any information indicating a possible violation of U.S. law is referred to an appropriate law enforcement agency. The Department has well-established procedures for the referral of information indicating a possible violation of U.S. laws to appropriate law enforcement agencies, and these procedures will be followed throughout the development and maintenance of the List.

D. Comments Concerning Definitions and Terms

Two commenters were concerned about the definitions of child labor and forced labor in the proposed Guidelines, questioning why they did not expressly reference International Labor Organization (ILO) conventions addressing child labor and forced labor. The commenters questioned why there were apparent differences between the definitions of terms in the proposed Guidelines and the corresponding definitions in the relevant ILO conventions. The Office has carefully considered these comments. Consequently, the definitions used in the final Guidelines have been revised to clarify that the Office will apply international standards.

Four commenters questioned the use of the terms “significant incidence” and “isolated incident” in the proposed Guidelines. One commenter raised an apparent inconsistency between the terms “significant,” “prevalent,” and “pattern of practice,” in the proposed Guidelines’ description of the amount of evidence that would weigh in favor of a finding that a particular good is produced in violation of international standards. Another commenter stated that the terms “significant” and “prevalent” provide inadequate guidance, because they do not address the percentage of workplaces in a country producing a particular good in violation of international standards, or whether a good produced in one location represents a large or small share of a country's total exports of the good. One commenter recommended that the terms “significant” and “prevalent” be replaced with “recurring.” Another commenter recommended that a more precise guideline be developed with respect to how much child labor or forced labor warrants the placement of a good on the List. One final commenter on this issue suggested that a good be removed from the List only if the use of child labor or forced labor is “insignificant,” stating that that term is more precise than the terms used in the proposed Guidelines.

It is neither possible nor useful to precisely quantify the amount or percentage of child labor or forced labor that will be considered “significant,” since what is considered “significant” will vary with a number of other factors. For that reason, the Guidelines provide that a “significant incidence” of child labor or forced labor occurring in the production of a particular good is only one among several factors that would be weighed before a good is added to, or removed from, the List. Other factors include whether the situation described meets the definitions of child labor or forced labor; the probative value of the evidence submitted; the date and source(s) of the information; and the extent to which the information is corroborated. The Guidelines also make clear that the Office will consider any available evidence of government, industry, and third-party actions and initiatives that are effective in significantly reducing if not eliminating child labor and forced labor. However, in response to these comments, the Office has decided to clarify the nature of the information sought by deleting the use of the term “prevalent.” The Office will also change the phrase, “pattern of practice,” to “pattern or practice.” The suggested terms “recurring” or “insignificant” provide no additional precision.

Two commenters requested that the goods on the List be identified as specifically as possible, to avoid confusion with similar goods that have not been produced using child labor or forced labor in violation of international standards. Some commenters suggested that the List use product codes developed for the Harmonized Tariff Schedule (HTS), reasoning that the use of such codes would both provide more specificity and improve interagency consultation. The Office intends to identify all goods on the List as specifically as possible, depending on available information. However, parties submitting information on a particular good may not have the necessary expertise to properly utilize the product codes developed for the HTS.

Another commenter suggested that the Office specifically include agricultural commodities in the definition of “goods.” The Office considers that the term “goods” includes agricultural products and the definition of “produced” in the Guidelines expressly covers goods that are harvested or farmed.

Final Procedural Guidelines

A. Sources of Information and Factors Considered in the Development and Maintenance of the List

The Office will make use of all relevant information, whether gathered through research, public submissions of information, a public hearing, interagency consultations, or other means, in developing the List. In the interest of maintaining a transparent process, the Office will not accept classified information in developing the List. The Office may request that any such information brought to its attention be declassified. If submissions contain confidential or personal information, the Office may redact such information in accordance with applicable laws and regulations before making the submission available to the public.

In evaluating information, the Office will consider and weigh several factors, including:

1. Nature of information. Whether the information about child labor or forced labor gathered from research, public submissions, hearing testimony, or other sources is relevant and probative, and meets the definitions of child labor or forced labor.

2. Date of information. Whether the information about child labor or forced labor in the production of the good(s) is no more than 7 years old at the time of receipt. More current information will generally be given priority, and information older than 7 years will generally not be considered.

3. Source of information. Whether the information, either from primary or secondary sources, is from a source whose methodology, prior publications, degree of familiarity and experience with international labor standards, and/or reputation for accuracy and objectivity, warrants a determination that it is relevant and probative.

4. Extent of corroboration. The extent to which the information about the use of child labor or forced labor in the production of a good(s) is corroborated by other sources.

5. Significant incidence of child labor or forced labor. Whether the information about the use of child labor or forced labor in the production of a good(s) warrants a determination that the incidence of such practices is significant in the country in question. Information that relates only to a single company or facility; or that indicates an isolated incident of child labor or forced labor, will ordinarily not weigh in favor of a finding that a good is produced in violation of international standards. Information that demonstrates a significant incidence of child labor or forced labor in the production of a particular good(s), although not necessarily representing a pattern or practice in the industry as a whole, will ordinarily weigh in favor of a finding that a good is produced in violation of international standards.

In determining which goods and countries are to be placed on the List, the Office will, as appropriate, take into consideration the stages in the chain of a good's production. Whether a good is placed on the List may depend on which stage of production used child labor or forced labor. For example, if child labor or forced labor was only used in the extraction, harvesting, assembly, or production of raw materials or component articles, and these materials or articles are subsequently used under non-violative conditions in the manufacture or processing of a final good, only the raw materials/component articles and the country/ies where they were extracted, harvested, assembled, or produced, as appropriate, may be placed on the List. If child labor or forced labor was used in both the production or extraction of raw materials/component articles and the manufacture or processing of a final good, then both the raw materials/component articles and the final good, and the country/ies in which such labor was used, may be placed on the List. This is to ensure a direct correspondence between the goods and countries which appear on the List, and the use of child labor or forced labor.

Information on government, industry, or third-party actions and initiatives to combat child labor or forced labor will be taken into consideration, although they are not necessarily sufficient in and of themselves to prevent a good and country from being listed. In evaluating such information, the Office will consider particularly relevant and probative any evidence of government, industry, and third-party actions and initiatives that are effective in significantly reducing if not eliminating child labor and forced labor.

Goods and countries (“entries”) that meet the criteria outlined in these procedural Guidelines will be placed on an initial List, to be published in the Federal Register and on the DOL Web site. This initial List will continue to be updated as additional information becomes available. Before publication of the initial List or subsequent versions of the List, the Office will inform the relevant foreign governments of their presence on the List and request their responses. The Office will review these responses and make a determination as to their relevance. The List, along with a listing of the sources used to identify the goods and countries on it, will be published in the Federal Register and on the DOL Web site. The List will represent DOL's conclusions based on all relevant information available at the time of publication.

For each entry, the List will indicate whether the good is made using child labor, forced labor, or both. As the List continues to be maintained and updated, the List will also indicate the date when each entry was included. The List will not include any company or individual names. DOL's postings on its website of source material used in identifying goods and countries on the List will be redacted to remove company or individual names, and other confidential material, pursuant to applicable laws and regulations.

B. Procedures for the Maintenance of the List

1. Following publication of the initial List, the Office will periodically review and update the List, as appropriate. The Office conducts ongoing research and monitoring of child labor and forced labor, and if relevant information is obtained through such research, the Office may add an entry to, or remove an entry from the List using the process described in section A of the Guidelines. The Office may also update the List on the basis of public information submissions, as detailed below.

2. Any party may at any time file an information submission with the Office regarding the addition or removal of an entry from the List. Submitters should take note of the criteria and instructions in the “Information Requested on Child Labor and Forced Labor” section of this notice, as well as the criteria listed in Section A of the Guidelines.

3. The Office will review any submission of information to determine whether it provides relevant and probative information.

4. The Office may consider a submission less reliable if it determines that: the submission does not clearly indicate the source(s) of the information presented; the submission does not identify the party filing the submission or is not signed and dated; the submission does not provide relevant or probative information; or, the information is not within the scope of the TVPRA and/or does not address child labor or forced labor as defined herein. All submissions received will be made available to the public on the DOL Web site, consistent with applicable laws or regulations.

5. In evaluating a submission, the Office will conduct further examination of available information relating to the good and country, as necessary, to assist the Office in making a determination concerning the addition or removal of the good from the List. The Office will undertake consultations with relevant U.S. government agencies and foreign governments, and may hold a public hearing for the purpose of receiving relevant information from interested persons.

6. In order for an entry to be removed from the List, any person filing information regarding the entry must provide information that demonstrates that there is no significant incidence of child labor or forced labor in the production of the particular good in the country in question. In evaluating information on government, industry, or third-party actions and initiatives to combat child labor or forced labor, the Office will consider particularly relevant and probative any available evidence of government, industry, and third-party actions that are effective in significantly reducing if not eliminating child labor and forced labor.

7. Where the Office has made a determination concerning the addition, maintenance, or removal of the entry from the List, and where otherwise appropriate, the Office will publish an updated List in the Federal Register and on the DOL Web site.

C. Key Terms Used in the Guidelines

“Child Labor”—“Child labor” under international standards means all work performed by a person below the age of 15. It also includes all work performed by a person below the age of 18 in the following practices: (A) All forms of slavery or practices similar to slavery, such as the sale or trafficking of children, debt bondage and serfdom, or forced or compulsory labor, including forced or compulsory recruitment of children for use in armed conflict; (B) the use, procuring, or offering of a child for prostitution, for the production of pornography or for pornographic purposes; (C) the use, procuring, or offering of a child for illicit activities in particular for the production and trafficking of drugs; and (D) work which, by its nature or the circumstances in which it is carried out, is likely to harm the health, safety, or morals of children. The work referred to in subparagraph (D) is determined by the laws, regulations, or competent authority of the country involved, after consultation with the organizations of employers and workers concerned, and taking into consideration relevant international standards. This definition will not apply to work specifically authorized by national laws, including work done by children in schools for general, vocational or technical education or in other training institutions, where such work is carried out in accordance with international standards under conditions prescribed by the competent authority, and does not prejudice children's attendance in school or their capacity to benefit from the instruction received.

“Countries”—“Countries” means any foreign country or territory, including any overseas dependent territory or possession of a foreign country, or the Trust Territory of the Pacific Islands.

“Forced Labor”—“Forced labor” under international standards means all work or service which is exacted from any person under the menace of any penalty for its nonperformance and for which the worker does not offer himself voluntarily, and includes indentured labor. “Forced labor” includes work provided or obtained by force, fraud, or coercion, including: (1) By threats of serious harm to, or physical restraint against any person; (2) by means of any scheme, plan, or pattern intended to cause the person to believe that, if the person did not perform such labor or services, that person or another person would suffer serious harm or physical restraint; or (3) by means of the abuse or threatened abuse of law or the legal process. For purposes of this definition, forced labor does not include work specifically authorized by national laws where such work is carried out in accordance with conditions prescribed by the competent authority, including: any work or service required by compulsory military service laws for work of a purely military character; work or service which forms part of the normal civic obligations of the citizens of a fully self-governing country; work or service exacted from any person as a consequence of a conviction in a court of law, provided that the said work or service is carried out under the supervision and control of a public authority and that the said person is not hired to or placed at the disposal of private individuals, companies or associations; work or service required in cases of emergency, such as in the event of war or of a calamity or threatened calamity, fire, flood, famine, earthquake, violent epidemic or epizootic diseases, invasion by animal, insect or vegetable pests, and in general any circumstance that would endanger the existence or the well-being of the whole or part of the population; and minor communal services of a kind which, being performed by the members of the community in the direct interest of the said community, can therefore be considered as normal civic obligations incumbent upon the members of the community, provided that the members of the community or their direct representatives have the right to be consulted in regard to the need for such services.

“Goods”—“Goods” means goods, wares, articles, materials, items, supplies, and merchandise.

“Indentured Labor”—“Indentured labor” means all labor undertaken pursuant to a contract entered into by an employee the enforcement of which can be accompanied by process or penalties.

“International Standards”—“International standards” means generally accepted international standards relating to forced labor and child labor, such as international conventions and treaties. These Guidelines employ definitions of “child labor” and “forced labor” derived from international standards.

“Produced”—“Produced” means mined, extracted, harvested, farmed, produced, created, and manufactured.

Information Requested on Child Labor and Forced Labor

DOL requests current information about the nature and extent of child labor and forced labor in the production of goods internationally, as well as information on government, industry, or third-party actions and initiatives to address these problems. Information submitted may include studies, reports, statistics, news articles, electronic media, or other sources. Submitters should take into consideration the “Sources of Information and Factors Considered in the Development and Maintenance of the List” (Section A of the Procedural Guidelines), as well as the definitions of child labor and forced labor contained in section C of the Guidelines.

Information tending to establish the presence or absence of a significant incidence of child labor or forced labor in the production of a particular good in a country will be considered the most relevant and probative. Governments that have ratified International Labor Organization (“ILO”) Convention 138 (Minimum Age), Convention 182 (Worst Forms of Child Labor), Convention 29 (Forced Labor) and/or Convention 105 (Abolition of Forced Labor) may wish to submit relevant copies of their responses to any Observations or Direct Requests by the ILO's Committee of Experts on the Application of Conventions and Recommendations.

Where applicable, information submissions should indicate their source or sources, and copies of the source material should be provided. If primary sources are utilized, such as research studies, interviews, direct observations, or other sources of quantitative or qualitative data, details on the research or data-gathering methodology should be provided.

Information should be submitted to the addresses and within the time period set forth above. Submissions made via fax, mail, express delivery, hand delivery, or messenger service should clearly identify the person filing the submission and should be signed and dated. Submissions made via mail, express delivery, hand delivery, or messenger service should include an original and three copies of all materials and attachments. If possible, submitters should also provide copies of such materials and attachments on a computer disc. Note that security-related screening may result in significant delays in receiving comments and other written materials by regular mail.

Classified information will not be accepted. The Office may request that classified information brought to its attention be declassified. Submissions containing confidential or personal information may be redacted by the Office before being made available to the public, in accordance with applicable laws and regulations. All submissions will be made available to the public on the DOL Web site, as appropriate. The Office will not respond directly to submissions or return any submissions to the submitter, but the Office may communicate with the submitter regarding any matters relating to the submission.

Announcement of Public Hearing

DOL intends to hold a public hearing in 2008 to gather further information to assist in the development of the List. DOL expects to issue a Federal Register Notice announcing the hearing at least 30 days prior to the hearing date. The scope of the hearing will focus on the collection of information on child labor and forced labor in the production of goods internationally, and information on government, industry, or third-party actions and initiatives to combat child labor and forced labor. Information tending to demonstrate the presence or absence of a significant incidence of child labor or forced labor in the production of a particular good in a country will be considered the most relevant and probative.

Signed at Washington, DC, this 20th day of December, 2007.
Charlotte M. Ponticelli,
Deputy Undersecretary for International Affairs.

[FR Doc. E7-25036 Filed 12-26-07; 8:45 am]

BILLING CODE 4510-28-P